DEPARTMENT OF ENERGY

Environmental Management Site-Specific Advisory Board, Idaho Cleanup Project

AGENCY: Office of Environmental Management, Department of Energy.

ACTION: Notice of cancellation of open in-person/virtual hybrid meeting.

SUMMARY: On October 1, 2020, the Department of Energy published a notice of open meeting announcing an in-person/virtual hybrid meeting on October 22, 2020, of the Environmental Management Site-Specific Advisory Board, Idaho Cleanup Project. This notice announces the cancellation of this in-person/virtual hybrid meeting.

DATES: The in-person/virtual hybrid meeting scheduled for October 22, 2020, announced in the October 1, 2020, issue of the Federal Register (FR Doc. 2020-21743, 85 FR 61941), is cancelled.

FOR FURTHER INFORMATION CONTACT: Danielle Miller, Federal Coordinator, U.S. Department of Energy, Idaho Operations Office, 1955 Fremont Avenue, MS-1203, Idaho Falls, Idaho 83415. Phone (208) 526-5709; or email: millerdc@id.doe.gov or visit the Board's internet home page at: https://www.energy.gov/em/icpcab/.

Signed in Washington, DC, on October 9, 2020.
LaTanya Butler,
Deputy Committee Management Officer.

[FR Doc. 2020-22796 Filed 10-14-20; 8:45 am]

BILLING CODE 6405-01-P